ENVIRONMENTAL PROTECTION AGENCY

40 CFR Parts 9 and 63

[FRL-6864-6]

RIN 2060-AG60

Hazardous Air Pollutants: Amendments to the Approval of State Programs and Delegation of Federal Authorities

Correction

In rule document 00-22968 beginning on page 55810 in the issue of Thursday, September 14, 2000, make the following correction:

§9.1 [Corrected]

On page 55835, in the first column, in Part 63, the designation for footnote 3 located in the first amendatory instructionÿ7Eÿ7Eÿ7E should be removed and included in §9.1, to read as follows: “National Emission Standards for Hazardous Air Pollutants for Source Categories³”.

[FR Doc. C0-22968 Filed 10-5-00; 8:45 am]

BILLING CODE 1505-01-D

DEPARTMENT OF HEALTH AND HUMAN SERVICES

Health Resources and Services Administration

Establishment of the Advisory Committee on Organ Transplantation and Solicitation of Nominations for Membership

Correction

In notice document 00-25000 beginning on page 58279 in the issue of Thursday, September 28, 2000, make the following correction:

The corrected heading, subagency and subject appear as set forth above.

[FR Doc. C0-25000 Filed 10-5-00; 8:45 am]

BILLING CODE 1505-01-D